DEPARTMENT OF COMMERCE

International Trade Administration

[A-570-040]

Truck and Bus Tires From the People's Republic of China: Correction to Final Results of Antidumping Duty Changed Circumstances Review

AGENCY: Enforcement and Compliance, International Trade Administration, Department of Commerce.

SUMMARY: The Department of Commerce (Commerce) is correcting the final results in the changed circumstances review (CCR) with respect to the antidumping duty order on truck and bus tires from the People's Republic of China (China) to correct the cash deposit rate in effect on the date that those final results published.

DATES: Applicable January 21, 2020.

FOR FURTHER INFORMATION CONTACT: Lochard Philozin, AD/CVD Operations, Office I, Enforcement and Compliance, International Trade Administration, U.S. Department of Commerce, 1401 Constitution Avenue NW, Washington, DC 20230; telephone: (202) 482-4260.

Background

On January 13, 2020, Commerce published in the Federal Register the final results of the CCR ¹ of the antidumping duty order on truck and bus tires from China.² In the Federal Registernotice, we inadvertently stated that Commerce will instruct U.S. Customs and Border Protection to suspend liquidation of all shipments of subject merchandise for the two successor-in-interest producer/exporter combinations at their predecessor-in-interest producer/exporter combinations' cash deposit rate of 9.00 percent. This notice serves to correct the cash deposit rated listed in the CCR Final Results from 9.00 percent to 0.00 percent, which is the estimated weighted-average dumping margin adjusted for domestic pass-through subsidies and export subsidies found in the amended final determination of the companion countervailing duty investigation of this merchandise imported from China.³ No other changes have been made to the CCR Final Results.

¹ See Truck and Bus Tires from the People's Republic of China: Final Results of Antidumping Duty Changed Circumstances Review, 85 FR 1802 (January 13, 2020) (CCR Final Results). In the CCR Final Results we determined that Sailun Group Co., Ltd. (Sailun Group) is the successor-in-interest to Sailun Jinyu Group Co., Ltd. (Sailun Jinyu), and that Sailun (Shenyang) Tire Co., Ltd. (Sailun Shenyang) is the successor-in-interest to Shenyang Peace Radial Tyre Manufacturing Co., Ltd. (Shenyang Peace).

² See Truck and Bus Tires from the People's Republic of China: Antidumping Duty Order, 84 FR 4436 (February 15, 2019) (AD Order).

³ See AD Order, 84 FR 4436, 4437 n.9; see also Truck and Bus Tires from the People's Republic of China: Amended Final Determination and Countervailing Duty Order, 84 FR 4434 (February 15, 2019).

This correction to the Final Results is issued and published in accordance with section 751(b)(1)(A) of the Tariff Act of 1930, as amended, and 19 CFR 351.216, 351.221(c)(3), and 351.224(e).

Dated: January 14, 2020.
Jeffrey I. Kessler,
Assistant Secretary for Enforcement and Compliance.

[FR Doc. 2020-00853 Filed 1-17-20; 8:45 am]

BILLING CODE 3510-DS-P